DEPARTMENT OF AGRICULTURE

Forest Service

Tuolumne County Resource Advisory Committee

AGENCY: Forest Service, USDA.

ACTION: Notice of meeting.

SUMMARY: The Tuolumne County Resource Advisory Committee will meet on August 19, 2002, at the City of Sonora Fire Department, in Sonora, California. The purpose of the meeting is to receive and review final project proposal submissions for 2002 funds.

DATES: The meeting will be held August 19, 2002, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370, (209) 532-3671; EMAIL pkaunert@fs.fed.us.

SUPPLEMENTARY INFORMATION: Agenda items to be covered include: (1) Take final vote on any remaining projects to recommend for funding; (2) Public comments; (3) Discuss purpose of upcoming September 9, 2002 meeting. This meeting is open to the public.

Dated: July 22, 2002.
Glenn Gottschall,
Acting Forest Supervisor.

[FR Doc. 02-19789 Filed 8-5-02; 8:45 am]

BILLING CODE 3410-ED-M